DEPARTMENT OF TRANSPORTATION

Office of the Secretary

Aviation Proceedings, Agreements Filed the Week Ending September 28, 2007

The following Agreements were filed with the Department of Transportation under Sections 412 and 414 of the Federal Aviation Act, as amended (49 U.S.C. 1383 and 1384) and procedures governing proceedings to enforce these provisions. Answers may be filed within 21 days after the filing of the application.

Docket Number: OST-2007-29363.

Date Filed: September 27, 2007.

Parties: Members of the International Air Transport Association.

Subject: TC3 Within South Asia Subcontinent (PTC3 1115), Special Passenger Amending Resolution, between Sri Lanka and India.

Intended Effective Date: 15 October 2007.

Renee V. Wright,
Program Manager, Docket Operations, Federal Register Liaison.

[FR Doc. E7-19956 Filed 10-9-07; 8:45 am]

BILLING CODE 4910-9X-P